DEPARTMENT OF TRANSPORTATION

Federal Aviation Administration

14 CFR Part 71

[Docket No. FAA-2023-2040; Airspace Docket No. 22-AEA-21]

RIN 2120-AA66

Establishment and Amendment of United States Area Navigation (RNAV) Routes; Eastern United States

AGENCY: Federal Aviation Administration (FAA), DOT.

ACTION: Final rule; correction.

SUMMARY: This action corrects a final rule published by the FAA in the Federal Register on April 25, 2024, that establishes United States Area Navigation (RNAV) Routes T-480, T-482, and T-488, and amends RNAV Routes Q-140, T-206, T-258, T-287, T-295, and T-398. The final rule identified the DOGWD, VA; LOUIE, MD; and RTBRO, NC, route points as Fixes, in error; and some of the proposed airway changes to RNAV Route T-295 have been postponed.

DATES: Effective date 0901 UTC, July 11, 2024. The Director of the Federal Register approves this incorporation by reference action under 1 CFR part 51, subject to the annual revision of FAA Order 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

SUPPLEMENTARY INFORMATION:

History

The FAA published a final rule in the Federal Register (89 FR 31605; April 25, 2024), establishing RNAV Routes T-480, T-482, and T-488, and amending RNAV Routes Q-140, T-206, T-258, T-287, T-295, and T-398 in the eastern United States. Subsequent to publication, the FAA determined that the DOGWD, VA; LOUIE, MD; and RTBRO, NC, route points were identified as Fixes, in error. This rule corrects that error by changing all references to these three route points to be listed as a waypoint (WP). This is an editorial change only to match the FAA's aeronautical database information and does not alter the alignment of the affected RNAV Routes, T-295, T-480, and T-488.

Additionally, the FAA decided to postpone some of the proposed airway changes to RNAV Route T-295. The segments between the Lancaster, PA (LRP), Very High Frequency Omnidirectional Range/Distance Measuring Equipment (VOR/DME) and the LAAYK, PA, Fix are being retained.

Correction to Final Rule

Accordingly, pursuant to the authority delegated to me, Establishment and Amendment of United States Area Navigation (RNAV) Routes; Eastern United States published in the Federal Register on April 25, 2024 (89 FR 31605), FR Doc. 2024-08665, is corrected as follows:

1. In FR Doc. 2024-08665, on page 31605, near the bottom of the second column, in the paragraph beginning “The FAA identified the Bangor, ME . . .”, correct the second sentence and add the third sentence to read “Prior to this action, the Bangor VORTAC was in the description of RNAV Route T-295 and remains on the route between the BRNNS, ME Fix and the LAUDS, ME, WP. Additionally, the FAA decided to postpone some of the proposed airway changes to RNAV Route T-295.”

2. In FR Doc. 2024-08665, on page 31606, near the top of the second column, correct the description for Route T-295, to read “T-295: Prior to this final rule, T-295 extended between the POORK, VA, WP and the Presque Isle, ME (PQI), VOR/DME. The FAA extended T-295 to the southwest between the DUFFI, NC, Fix and the POORK WP; added the DOGWD, VA, WP and the RIPKN, MD, WP to the route. Additionally, the FAA removed the Chester, MA (CTR), VOR/DME from the route's legal description as those segments contain turns of less than one degree. As amended, the route is changed to now extend between the DUFFI Fix and the Presque Isle VOR/DME.”

3. In FR Doc. 2024-08665, on page 31606, near the bottom of the second column, correct the description for Route T-488 to read “T-488: T-488 is a new route that extends between the Tar River, NC (TYI), VORTAC and the RTBRO, NC, WP. T-488 overlays a portion of VOR Federal Airway V-189 from the Tar River VORTAC and the Wright Brothers, NC (RBX), VOR/DME.”

4. In FR Doc. 2024-08665, on page 31606 correct the table for T-295 DUFFI, NC to Presque Isle, ME (PQI) to read:

T-295 DUFFI, NC to Presque Isle, ME (PQI) [Amended]
DUFFI, NC | FIX | (Lat. 36°20′57.87″ N, long. 077°47′29.22″ W)
POORK, VA | WP | (Lat. 36°34′11.34″ N, long. 077°35′21.39″ W)
DOGWD, VA | WP | (Lat. 36°45′05.57″ N, long. 077°28′53.38″ W)
HOUKY, VA | WP | (Lat. 37°19′55.98″ N, long. 077°07′57.63″ W)
TAPPA, VA | FIX | (Lat. 37°58′12.66″ N, long. 076°50′40.62″ W)
COLIN, VA | FIX | (Lat. 38°05′59.23″ N, long. 076°39′50.85″ W)
SHLBK, MD | WP | (Lat. 38°20′16.21″ N, long. 076°26′10.51″ W)
LOUIE, MD | WP | (Lat. 38°36′44.33″ N, long. 076°18′04.37″ W)
GRACO, MD | FIX | (Lat. 38°56′29.81″ N, long. 076°11′59.22″ W)
RIPKN, MD | WP | (Lat. 39°10′05.68″ N, long. 076°20′14.13″ W)
BAABS, MD | WP | (Lat. 39°22′01.36″ N, long. 076°27′31.21″ W)
Lancaster, PA (LRP) | VOR/DME | (Lat. 40°07′11.91″ N, long. 076°17′28.66″ W)
Wilkes Barre, PA (LVZ) | VORTAC | (Lat. 41°16′22.08″ N, long. 075°41′22.08″ W)
LAAYK, PA | FIX | (Lat. 41°28′32.64″ N, long. 075°28′57.31″ W)
SAGES, NY | FIX | (Lat. 42°02′46.33″ N, long. 074°19′10.33″ W)
SASHA, MA | FIX | (Lat. 42°07′58.70″ N, long. 073°08′55.39″ W)
KEYNN, NH | WP | (Lat. 42°47′39.99″ N, long. 072°17′30.35″ W)
Concord, NH (CON) | VOR/DME | (Lat. 43°13′11.23″ N, long. 071°34′31.63″ W)
Kennebunk, ME (ENE) | VOR/DME | (Lat. 43°25′32.42″ N, long. 070°36′48.69″ W)
BRNNS, ME | FIX | (Lat. 43°54′08.64″ N, long. 069°56′42.81″ W)
Bangor, ME (BGR) | VORTAC | (Lat. 44°50′30.46″ N, long. 068°52′26.27″ W)
LAUDS, ME | WP | (Lat. 45°25′10.13″ N, long. 068°12′26.96″ W)
HULTN, ME | WP | (Lat. 46°02′22.29″ N, long. 067°50′02.06″ W)
Presque Isle, ME (PQI) | VOR/DME | (Lat. 46°46′27.07″ N, long. 068°05′40.37″ W)

* * * * *

5. In FR Doc. 2024-08665, on page 31606 correct the table for T-480 Greensboro, NC (GSO) to ZOLMN, NC to read:

T-480 Greensboro, NC (GSO) to ZOLMN, NC [New]
Greensboro, NC (GSO) | VORTAC | (Lat. 36°02′44.49″ N, long. 079°58′34.94″ W)
MCDON, VA | WP | (Lat. 36°40′29.56″ N, long. 079°00′52.03″ W)
MAZON, VA | FIX | (Lat. 36°45′23.24″ N, long. 077°22′02.91″ W)
COUPN, VA | WP | (Lat. 36°42′50.83″ N, long. 077°00′44.04″ W)
Elizabeth City, NC (ECG) | VOR/DME | (Lat. 36°15′27.26″ N, long. 076°10′32.15″ W)
RTBRO, NC | WP | (Lat. 35°55′13.85″ N, long. 075°41′49.05″ W)
ZOLMN, NC | FIX | (Lat. 35°38′42.35″ N, long. 075°24′27.41″ W)

* * * * *

6. In FR Doc. 2024-08665, on page 31606 correct the table for T-488 Tar River NC (TYI) to RTBRO, NC to read:

T-488 Tar River NC (TYI) to RTBRO, NC [New]
Tar River, NC (TYI) | VORTAC | (Lat. 35°58′36.21″ N, long. 077°42′13.43″ W)
RTBRO, NC | WP | (Lat. 35°55′13.85″ N, long. 075°41′49.05″ W)

* * * * *

Issued in Washington, DC, on May 29, 2024.
Frank Lias,
Manager, Rules and Regulations Group.

[FR Doc. 2024-12153 Filed 6-5-24; 8:45 am]

BILLING CODE 4910-13-P